DEPARTMENT OF COMMERCE

International Trade Administration

[A-570-882]

Refined Brown Aluminum Oxide from the People's Republic of China: Notice of Extension of Time Limit for the Final Results of Antidumping Duty Administrative Review

AGENCY: Import Administration, International Trade Administration, Department of Commerce.

EFFECTIVE DATE: March 13, 2009.

FOR FURTHER INFORMATION CONTACT: David Goldberger or Kate Johnson at (202) 482-4136 or (202) 482-4929, respectively, AD/CVD Operations, Office 2, Import Administration, International Trade Administration, U.S. Department of Commerce, 14th Street and Constitution Avenue, N.W., Washington, D.C. 20230.

SUPPLEMENTARY INFORMATION:

Background

On December 1, 2008, the Department of Commerce (the Department) published the preliminary results of the 2006-2007 administrative review of the antidumping duty order on refined brown aluminum oxide (RBAO) from the People's Republic of China (PRC) covering the period November 1, 2006, to October 31, 2007. See Refined Brown Aluminum Oxide from the People's Republic of China: Preliminary Results of Antidumping Duty Administrative Review, 73 FR 72767 (December 1, 2008). The final results for this administrative review are currently due no later than March 31, 2009, 120 days from the date of publication of the preliminary results of review.

Extension of Time Limit of Final Results

Section 751(a)(3)(A) of the Tariff Act of 1930, as amended (the Act), requires that the Department issue the final results of an administrative review within 120 days after the date on which the preliminary results are published. If it is not practicable to complete the review within that time period, section 751(a)(3)(A) of the Act allows the Department to extend the deadline for the final results to a maximum of 180 days after the date on which the preliminary results are published.

The Department requires additional time to analyze the interested party comments concerning the issue of the appropriate surrogate value for the major raw material input in the production of RBAO. Thus, it is not practicable to complete this review within the original time limit. Therefore, the Department is extending the time limit for completion of the final results of this review by 60 days, in accordance with section 751(a)(3)(A) of the Act. Accordingly, the final results are now due no later than June 1, 2009, the next business day after 180 days from the date of publication of the preliminary results of review.

This notice is published pursuant to sections 751(a)(3)(A) and 777(i) of the Act.

Dated: March 9, 2009.
John M. Andersen,
Acting Deputy Assistant Secretary for Antidumping and Countervailing Duty Operations.

[FR Doc. E9-5488 Filed 3-12-09; 8:45 am]

BILLING CODE 3510-DS-S